ENVIRONMENTAL PROTECTION AGENCY

[EPA-R09-OW-2017-0478; FRL-9969-70-Region 9]

Notice of Availability of Proposed National Pollutant Discharge Elimination System (NPDES) General Permit for Low Threat Discharges in Navajo Nation and NPDES General Permit for Bulk Fuel Storage Facilities in Guam.

AGENCY: Environmental Protection Agency (EPA).

ACTION: Notice of Availability of Proposed NPDES General Permits.

SUMMARY: EPA Region 9 is proposing to issue a general NPDES permit for discharges from facilities with discharges classified as low threat located in the Navajo Nation (Permit No. NNG990001) and a general NPDES permit for discharges from bulk fuel storage facilities located in Guam (Permit No. GUG000001). These are new proposed permits which will be issued upon completion of the notice and comment period and after due consideration has been given to all comments received.

Use of a general permit in the two categories and locations described above allows EPA and dischargers to allocate resources in a more efficient manner, obtain timely permit coverage, and avoid issuing resource intensive individual permits to each facility, while simultaneously providing greater certainty and efficiency to the regulated community while ensuring consistent permit conditions for comparable facilities.

This notice announces the availability of the proposed general permits and the corresponding fact sheets for public comment which can be found on Region 9's Web site at: http://www.epa.gov/region09/water/npdes/pubnotices.html.

DATES: Comments on the proposed permits must be received or postmarked no later than February 5, 2018.

ADDRESSES: Public comments on the proposed permits may be submitted by U.S. Mail to: Environmental Protection Agency, Region 9, Attn: Gary Sheth, NPDES Permits Section, Water Division (WTR-2-3), 75 Hawthorne Street, San Francisco, California 94105-3901, or by email to: sheth.gary@epa.gov. Please include the following Docket No. in the email subject line:

EPA-R09-OW-2017-0478.

FOR FURTHER INFORMATION CONTACT: Gary Sheth, EPA Region 9, NPDES Permits Section, Water Division (WTR-2-3), 75 Hawthorne Street, San Francisco, California 94105-3901, or telephone (415) 972-3516. A copy of the proposed permits and fact sheets will be provided upon request and are also available on Region 9's Web site at: http://www.epa.gov/region09/water/npdes/pubnotices.html.

Administrative record: The proposed permits and other related documents in the administrative record are on file and may be inspected any time between 8:30 a.m. and 4:00 p.m., Monday through Friday, excluding legal holidays, at the following address: U.S. EPA Region 9, NPDES Permits Section, Water Division (WTR-2-3), 75 Hawthorne Street, San Francisco, CA 94105-3901.

SUPPLEMENTARY INFORMATION:

A. Does this action apply to me?

The proposed NPDES General Permit for Low Threat Discharge in Navajo Nation is intended to provide coverage to entities that discharge wastewater that is relatively pollutant free, below a specified volume, and/or for a limited time, within the Navajo Nation. The proposed NPDES General Permit for Bulk Fuel Storage Facilities in Guam replaces individual NPDES permits for five bulk fuel storage facilities and provides coverage for new eligible bulk fuel facilities in Guam.

B. How can I submit comments?

* Identify which General Permit included in this notice you are commenting on.

* Include documentation to support your comments.

* Submit comments by the deadline identified in this Federal Register notice.

* Provide your comments in writing by U.S. mail or email as indicated in the ADDRESS section above.

Authority: Clean Water Act, 33 U.S.C. 1251 et seq.

Dated: October 2, 2017.
Tomás Torres,
Director, Water Division, EPA Region 9.

[FR Doc. 2017-26302 Filed 12-5-17; 8:45 am]

BILLING CODE 6560-50-P